DEPARTMENT OF HOUSING AND URBAN DEVELOPMENT

[Docket No. FR-5639-N-02]

Notice of Regulatory Waiver Requests Granted for the Second Quarter of Calendar Year 2012

AGENCY: Office of the General Counsel, HUD.

ACTION: Notice.

SUMMARY: Section 106 of the Department of Housing and Urban Development Reform Act of 1989 (the HUD Reform Act) requires HUD to publish quarterly Federal Register notices of all regulatory waivers that HUD has approved. Each notice covers the quarterly period since the previous Federal Register notice. The purpose of this notice is to comply with the requirements of section 106 of the HUD Reform Act. This notice contains a list of regulatory waivers granted by HUD during the period beginning on April 1, 2012, and ending on June 30, 2012.

FOR FURTHER INFORMATION CONTACT: For general information about this notice, contact Camille E. Acevedo, Associate General Counsel for Legislation and Regulations, Department of Housing and Urban Development, 451 Seventh Street SW., Room 10282, Washington, DC 20410-0500, telephone 202-708-1793 (this is not a toll-free number). Persons with hearing- or speech-impairments may access this number through TTY by calling the toll-free Federal Information Relay Service at 800-877-8339.

For information concerning a particular waiver that was granted and for which public notice is provided in this document, contact the person whose name and address follow the description of the waiver granted in the accompanying list of waivers that have been granted in the second quarter of calendar year 2012.

SUPPLEMENTARY INFORMATION: Section 106 of the HUD Reform Act added a new section 7(q) to the Department of Housing and Urban Development Act (42 U.S.C. 3535(q)), which provides that:

1. Any waiver of a regulation must be in writing and must specify the grounds for approving the waiver;

2. Authority to approve a waiver of a regulation may be delegated by the Secretary only to an individual of Assistant Secretary or equivalent rank, and the person to whom authority to waive is delegated must also have authority to issue the particular regulation to be waived;

3. Not less than quarterly, the Secretary must notify the public of all waivers of regulations that HUD has approved, by publishing a notice in the Federal Register. These notices (each covering the period since the most recent previous notification) shall:

a. Identify the project, activity, or undertaking involved;

b. Describe the nature of the provision waived and the designation of the provision;

c. Indicate the name and title of the person who granted the waiver request;

d. Describe briefly the grounds for approval of the request; and

e. State how additional information about a particular waiver may be obtained.

Section 106 of the HUD Reform Act also contains requirements applicable to waivers of HUD handbook provisions that are not relevant to the purpose of this notice.

This notice follows procedures provided in HUD's Statement of Policy on Waiver of Regulations and Directives issued on April 22, 1991 (56 FR 16337). In accordance with those procedures and with the requirements of section 106 of the HUD Reform Act, waivers of regulations are granted by the Assistant Secretary with jurisdiction over the regulations for which a waiver was requested. In those cases in which a General Deputy Assistant Secretary granted the waiver, the General Deputy Assistant Secretary was serving in the absence of the Assistant Secretary in accordance with the office's Order of Succession.

This notice covers waivers of regulations granted by HUD from April 1, 2012 through June 30, 2012. For ease of reference, the waivers granted by HUD are listed by HUD program office (for example, the Office of Community Planning and Development, the Office of Fair Housing and Equal Opportunity, the Office of Housing, and the Office of Public and Indian Housing, etc.). Within each program office grouping, the waivers are listed sequentially by the regulatory section of title 24 of the Code of Federal Regulations (CFR) that is being waived. For example, a waiver of a provision in 24 CFR part 58 would be listed before a waiver of a provision in 24 CFR part 570.

Where more than one regulatory provision is involved in the grant of a particular waiver request, the action is listed under the section number of the first regulatory requirement that appears in 24 CFR and that is being waived. For example, a waiver of both § 58.73 and § 58.74 would appear sequentially in the listing under § 58.73.

Waiver of regulations that involve the same initial regulatory citation are in time sequence beginning with the earliest-dated regulatory waiver.

Should HUD receive additional information about waivers granted during the period covered by this report (the second quarter of calendar year 2012) before the next report is published (the third quarter of calendar year 2012), HUD will include any additional waivers granted for the second quarter in the next report.

Accordingly, information about approved waiver requests pertaining to HUD regulations is provided in the Appendix that follows this notice.

Dated: September 6, 2012.
Helen R. Kanovsky,
General Counsel.

Appendix

Listing of Waivers of Regulatory Requirements Granted by Offices of the Department of Housing and Urban Development April 1, 2012 through June 30, 2012

Note to Reader: More information about the granting of these waivers, including a copy of the waiver request and approval, may be obtained by contacting the person whose name is listed as the contact person directly after each set of regulatory waivers granted.

The regulatory waivers granted appear in the following order:

I. Regulatory waivers granted by the Office of Community Planning and Development.

II. Regulatory waivers granted by the Office of Housing.

III. Regulatory waivers granted by the Office of Public and Indian Housing.

I. Regulatory Waivers Granted by the Office of Community Planning and Development

For further information about the following regulatory waivers, please see the name of the contact person that immediately follows the description of the waiver granted.

• Regulation: 24 CFR 58.22(a).

Project/Activity: The town project entailed the construction of a multiplex facility in the Town of Grand Isle, LA that included a senior citizens multi-function recreation and social area, a medical clinic, and a sheriff's substation.

In this situation the Town of Grand Isle previously received two Economic Development Initiative (EDI) grants in 2002 and 2003 in which the environmental review was completed and approved for planning. The Town of Grand Isle mistakenly believed that the environmental review requirements had been satisfied for the project and thus did not complete the environmental review for the construction component of the project prior to starting construction in August of 2010.

Nature of Requirement: The regulation requires that an environmental review be performed and a Request for Release of Funds be completed and certified prior to the commitment of non-HUD funds to a project using HUD funds.

Granted By: Mercedes Márquez, Assistant Secretary for Community Planning and Development.

Date Granted: April 5, 2012.

Reason Waived: The waiver was granted because the above project was determined to further the HUD mission and advance HUD program goals to develop viable, quality communities. The Town of Grand Isle did not have experience administering HUD grants and the Town stated that it did not intend to violate HUD's environmental requirements and no HUD funds were committed. Based on the environmental assessment, the Town's mitigation of floodplain impacts and the Town's purchase of flood insurance, granting a waiver would not result in any unmitigated, adverse environmental impact.

Contact: Kathryn Au, Office of Environment and Energy, Office of Community Planning and Development, Department of Housing and Urban Development, 451 Seventh Street SW., Room 7250, Washington, DC 20410, telephone (202) 402-6340.

• Regulation: 24 CFR 91.105(c)(2).

Project/Activity: The City of Tuscaloosa, AL, planned to commit $450,000 in HOME Program funds to the rebuilding of Rosedale Court, a housing development affected by storms and a tornado that struck on April 27, 2011, and requested a waiver of the citizen participation requirement at 24 CFR 91.105(c)(2) that requires a 30-day public comment period for a substantial amendments.

Nature of Requirements: The citizen participation and consultation section of HUD's regulations in 24 CFR part 91, which is § 91.105(c)(2), provides citizens with reasonable notice and an opportunity to comment on substantial amendments. The citizen participation plan must provide a period, not less than 30 days, to receive comments on the substantial amendment before the amendment is implemented.

Granted By: Mark Johnston, Acting Assistant Secretary for Community Planning and Development.

Date Granted: May 30, 2012.

Reasons Waived: The waiver of 24 CFR 91.105(c)(2) was granted to shorten the period of time for public comment. The Tuscaloosa City Council met to consider the project on May 29, 2012, and, due to the Alabama meeting sunshine laws requiring at least 7-day public notice, did not have sufficient time to publish the additional notice and reschedule a Council meeting before the program commitment deadline of May 31, 2012. Failure to approve the proposed project would have jeopardized funds necessary to assist the City with its disaster recovery efforts.

Contact: Virginia Sardone, Office of Community Planning and Development, Department of Housing and Urban Development, 451 Seventh Street SW., Room 7164, Washington, DC 20410, telephone (202) 708-2684.

• Regulations: 24 CFR 92.503(b)(3).

Project/Activity: The City of Macon committed funding for 11 activities to provide HOME-assisted units. However, after expending some of the funds, the projects were terminated because it was determined they could not produce HOME-assisted units due to the poor economic climate. Accordingly, the City requested a waiver of the requirement to repay HOME funds to the account of disbursement.

Nature of Requirements: The HOME program regulations at § 92.503(b)(3) require that HOME funds that were disbursed from the participating jurisdiction's HOME Treasury account must be repaid to the Treasury account. If the HOME funds were disbursed from the participating jurisdiction's HOME local account, they must be repaid to the local account.

Granted By: Mercedes Márquez, Assistant Secretary for Community Planning and Development.

Date Granted: April 20, 2012.

Reasons Waived: The City of Macon was obligated to repay $50,294.26 to its 2002, 2003, and 2004 HOME grants, which had expired. Had these funds been received by HUD, they would have been considered by the U.S. Treasury as miscellaneous receipts. Also, these funds would have been unavailable to be used for local HOME projects and would have negated the program's intent to make repaid funds immediately available for investment. Accordingly, the City requested a waiver of the requirement at 24 CFR 92.503(b)(3) to allow the repayments to be repaid to the City of Macon's local account to be used for local HOME projects.

Contact: Virginia Sardone, Office of Community Planning and Development, Department of Housing and Urban Development, 451 Seventh Street SW., Room 7164, Washington, DC 20410, telephone (202) 708-2684.

• Regulations: 24 CFR 92.503(b)(3).

Project/Activity: The City of Ontario, CA, requested a waiver of 24 CFR 92.503(b)(3), which requires funds to be repaid to the account from which they were disbursed. The City had committed HOME funds for a new construction homeownership project, which was never constructed.

Nature of Requirements: The City of Ontario was obligated to repay HOME funds for a project that was terminated before completion to the HOME grant from which the funds were expended. If all or a portion of the total repayment was repaid to an expired account, the repayment would have been received by HUD but retained by the U.S. Treasury. As a result, the repaid funds would have no longer been available for the participating jurisdiction to use in eligible affordable housing activities. The National Affordable Housing Act states that such repaid funds shall be immediately available to the grantee for investment in eligible affordable housing activities. In this case, compliance with the regulation thwarted statutory intent. The waiver was granted to permit the City to repay their local HOME Investment Trust Fund account instead of their HOME Investment Trust Treasury account and make the repaid funds available for investment in additional HOME-eligible activities.

Granted By: Mercedes Márquez, Assistant Secretary for Community Planning and Development.

Date Granted: April 27, 2012.

Reasons Waived: The waiver was granted to permit the City to repay their HOME Investment Trust Fund local account to make the funds available for eligible affordable housing activities.

Contact: Virginia Sardone, Office of Community Planning and Development, Department of Housing and Urban Development, 451 Seventh Street, SW., Room 7164, Washington, DC 20410, telephone (202) 708-2684.

• Regulation: 24 CFR 574.330(a)(1).

Project/Activity: The Downtown Emergency Service Center (DESC), a Seattle, WA, recipient received a competitive grant under HUD's Housing Opportunities for Persons With AIDS (HOPE) program, requested a waiver of the HOPWA short-term supported housing regulation to continue the provision of emergency shelter housing assistance to 60 households which is over the maximum 50 households allowed by HOPWA regulation. DESC requested an additional waiver to continue provision of this emergency shelter housing assistance beyond the 60-day limit.

Nature of Requirement: The HOPWA short-term supported housing regulation at 24 CFR 574.330(a)(1): States: “A short-term supported facility may not provide shelter or housing for more than 60 days during any six-month period.”

Granted By: Mark Johnston, Acting Assistant Secretary for Community Planning and Development.

Date Granted: June 28, 2012.

Reason Waived: The unavailability of other reasonable critical short-term emergency housing options within close proximity of this facility remained an impediment to identifying other housing options for homeless individuals with challenging mental health issues. This waiver was granted for the current 6-month period for the 5 homeless individuals DESC has been unable to place in permanent housing. DESC will continue to make a good faith effort to acquire permanent housing for these individuals.

Contact: David Vos, Director of the Office of HIV/AIDS Housing, Office of Community Planning and Development, Department of Housing and Urban Development, 451 Seventh Street SW., Room 7212, Washington, DC 20410, telephone (202) 708-1934.

• Regulation: 24 CFR 84.32(c)(2).

Project/Activity: The organization, AIDS Alabama, requested a waiver for 8 scattered-site manufactured homes that met the HOPWA minimum use period and that AIDS Alabama wanted to sell. AIDS Alabama would reinvest the funds back into the Alabama Rural AIDS Project by creating a new master leasing program. HUD's property disposition requirement requires that a portion of the funds be repaid to the government.

Nature of Requirement: The HUD property disposition requirement at § 84.32(c)(2) states: “the recipient may be directed to sell the property under guidelines provided by HUD and pay the Federal Government for that percentage of the current fair market value of the property attributable to the Federal participation in the project.”

Granted By: Mercedes Márquez, Assistant Secretary for Community Planning and Development.

Date Granted: May 17, 2012.

Reason Waived: The physical condition of these manufactured homes deteriorated over time and the current cost of maintenance is prohibitive for the tenants and the organization. All 8 manufactured homes met the minimum use period and served HOPWA program purposes during the minimum use period. The master leasing project will continue to serve program participants in the same service area.

Contact: David Vos, Director of the Office of HIV/AIDS Housing, Office of Community Planning and Development, Department of Housing and Urban Development, 451 Seventh Street SW., Room 7212, Washington, DC 20410, telephone (202) 708-1934.

II. Regulatory Waivers Granted by the Office of Housing—Federal Housing Administration (FHA)

For further information about the following regulatory waivers, please see the name of the contact person that immediately follows the description of the waiver granted.

• Regulation: 24 CFR part 5, subpart G and 24 CFR part 200, subpart P.

Project/Activity: Co-Op City (aka Riverbay Corporation), Bronx, New York City, New York

Nature of Requirement: HUD's regulations at 24 CFR part 5, subpart G and 24 CFR part 200, subpart P, require that HUD Uniform Physical Condition Standard (UPCS) inspections be conducted on the property.

Granted By: Carol J. Galante, Acting Assistant Secretary for Housing—Federal Housing Commissioner.

Date Granted: May 21, 2012.

Reason Waived: HUD granted the waiver on the basis that the New York State Homes and Community Renewal (HCR) would be allowed to conduct the physical inspections of the residential and commercial components of the Co-Op City property typically conducted by the responsible entity pursuant to 24CFR part 200, subpart P. It was determined that the inspection protocol for the power plant could be (and would be) satisfied by the State of New York and Department of Energy.

Contact: Daniel Sullivan, Acting Director, Office of Multifamily Housing Development, Office of Housing, Department of Housing and Urban Development, 451 Seventh Street SW., Room 6148, Washington, DC 20410, telephone (202)708-6130.

• Regulation: 24 CFR 200.85(b).

Project/Activity: The Meadows, Jacksonville, Arkansas Project Number: FHA 082-35428.

Nature of Requirement: HUD's regulations at 24 CFR 200.85(b) provide as follows: ” A covenant against repayments of a Commissioner-approved inferior lien from mortgage proceeds other than surplus cash or residual receipts, except in the case of an inferior lien created pursuant to section 223(d) of the Act, or a supplemental loan insured pursuant to section 241 of the Act.”

Granted By: Carol J. Galante, Acting Assistant Secretary for Housing—Federal Housing Commissioner.

Date Granted: June 14, 2012.

Reason Waived: The award of low-income housing tax credits (LIHTC) is tied to the award of HOME funds. The project would not qualify for an allocation of LIHTCs if the owner/borrower did not accept the HOME funds, and the acceptance of such funds is prohibited by 24 CFR 200.85(b). Accordingly, without the use of the tax credits, which requires waiver of § 200.85(b), the affordable housing units could not be built.

Contact: Daniel Sullivan, Acting Director, Office of Multifamily Housing Development, Office of Housing, Department of Housing and Urban Development, 451 Seventh Street SW., Room 6148, Washington, DC 20410, telephone (202)708-6130.

• Regulation: 24CFR 266.410(e).

Project/Activity: California Housing Finance Agency (CalHFA)

Nature of Requirement: Section 266.410 of HUD's regulations requires that mortgages insured under the section 542(c) Risk Sharing program be regularly amortizing over the term of the mortgage.

Granted By: Carol J. Galante, Acting Assistant Secretary for Housing—Federal Housing Commissioner.

Date Granted: April 27, 2012.

Reason Waived: Additional risk would be offset by the fact that the projects to be substantially rehabilitated using the New Issue Bond Program (NIBP) have already demonstrated performance in CalHFA's portfolio, many with current Section 8 HAP contracts. HUD's own exposure is further limited with the condition that CalHFA take 50 percent or more of the risk on these transactions.

Contact: Daniel Sullivan, Acting Director, Office of Multifamily Housing Development, Office of Housing, Department of Housing and Urban Development, 451 Seventh Street SW., Room 6148, Washington, DC 20410, telephone (202) 708-6130.

• Regulation: 24 CFR 202.5(g).

Project/Activity: Applicants for FHA lender approval or renewal as supervised lenders and mortgagees that possess consolidated assets below the thresholds for required submission of annual audited financial statements set by their respective regulators at 12 CFR 363.1(a), 12 CFR 562.4(b)(2), or 12 CFR 715.4(c) requested waiver of audited financial submission requirements.

Nature of Requirement: Section 202.5(g) of HUD's regulations requires supervised, non-supervised, and investing lenders or mortgagees to furnish to FHA a copy of their annual audited financial statements within 90 days of the lender or mortgagee's fiscal year end in order to obtain or renew FHA lender approval. The other requirements in this section were not requested to be waived.

Granted By: Carol J. Galante, Acting Assistant Secretary for Housing—Federal Housing Commissioner.

Date Granted: February 17, 2012.

Reason Waived: For some small supervised lenders and mortgagees that originate low volumes of FHA loans, the new expense for obtaining audited financial statements may be deemed too burdensome to justify continued participation in FHA programs as approved lenders and mortgagees. Due to the fact that many of these small supervised lenders and mortgagees are located in rural communities that possess a limited selection of residential mortgage lending entities, the relinquishment of FHA lender approval by these institutions may decrease access to FHA programs for some rural communities. In the midst of the present economic recovery, and given FHA's more prominent role in the nation's mortgage market at present, a reduction in the availability of FHA-insured mortgage credit could adversely impact the recovery of some states and communities. A waiver of the new audited financial statement requirements for supervised lenders meeting the designated consolidated asset thresholds would ensure the continued availability of FHA products throughout the nation, and not pose significant additional risk to FHA's insurance funds.

Contact: Volky A. Garcia, Director, Lender Approval and Recertification Division, Office of Lender Activities and Program Compliance, Office of Housing, Department of Housing and Urban Development, 490 L'Enfant Plaza East SW., Room P3214, Washington, DC 20024, telephone (202) 708-1515 (this is not a toll-free number).

• Regulation: 24 CFR 219.220(b).

Project/Activity: Stovall Terrace Apartments—FHA Project Number 122-EH305, Los Angeles, California. The owner requested deferral of repayment of the Flexible Subsidy Operating Assistance Loan due to the project owner's inability to repay the loan in full upon maturity or prepayment of the loan.

Nature of Requirement: Section 219.220(b) of HUD's regulations governs the repayment of operating assistance provided under the Flexible Subsidy Program for Troubled Projects prior to May 1, 1996 states: “Assistance that has been paid to a project owner under this subpart must be repaid at the earlier of the expiration of the term of the mortgage, termination of mortgage insurance, prepayment of the mortgage, or a sale of the project * * *” Either of these actions would typically terminate FHA involvement with the property, and the Flexible Subsidy Loan would be repaid, in whole, at that time.

Granted By: Carol J. Galante, Acting Assistant Secretary for Housing—Federal Housing Commissioner.

Date Granted: May 7, 2012.

Reason Waived: The owner's request was granted to allow deferment of repayment of the Flexible Subsidy Operating Assistance Loan due to their inability to repay the loan in full upon the prepayment or refinance of the loan. The waiver would allow the Owner to prepay and refinance the loan, allowing recapitalization of the project and performance of long needed critical and noncritical repairs at the project. A commitment was made to execute a Rental Use Agreement for a term of an additional 35 years. These measures will ensure the preservation of the project as an affordable housing resource for eligible residents of the Los Angeles, California area.

Contact: Mark B. Van Kirk, Director, Office of Asset Management, Office of Housing, Department of Housing and Urban Development, 451 Seventh Street SW., Room 6160, Washington, DC 20410, telephone (202) 708-3730.

• Regulation: 24 CFR 219.220(b).

Project/Activity: Dunn Family Senior Citizens Home—FHA Project Number 044-44801, Centerline, Michigan. The Owner is unable to repay the Flexible Subsidy Operating Assistance Loan in full. Granting this waiver will prevent dire consequences to the property and tenants who reside there.

Nature of Requirement: Section 219.220(b) governs the repayment of operating assistance provided under the Flexible Subsidy Program for Troubled Projects prior to May 1, 1996 states: “Assistance that has been paid to a project owner under this subpart must be repaid at the earlier of the expiration of the term of the mortgage, termination of mortgage insurance, prepayment of the mortgage, or a sale of the project * * *” Either of these actions would typically terminate FHA involvement with the property, and the Flexible Subsidy Loan would be repaid, in whole, at that time.

Granted By: Carol J. Galante, Acting Assistant Secretary for Housing—Federal Housing Commissioner.

Date Granted: May 7, 2012.

Reason Waived: The non-profit owner's request was granted to exempt the requirement to repay their loan upon maturity. Granting of the waiver was determined would allow the 60 Section 236 tenants to maintain their vouchers and keep rents reduced for this low-income elderly population, and allow this property to remain as a much-needed affordable housing resource for the Centerline, Michigan area. A commitment was made to execute a Rental Use Agreement for an additional 20-year term.

Contact: Mark B. Van Kirk, Director, Office of Asset Management, Office of Housing, Department of Housing and Urban Development, 451 Seventh Street SW., Room 6160, Washington, DC 20410, telephone (202) 708-3730.

• Regulation: 24 CFR 232.3.

Project/Activity: Elderberry Square is a 48 unit assisted living and dementia care facility located in Florence, Oregon.

Nature of Requirement: HUD's regulation at § 232.3 mandates in a board and care home or assisted living facility that the not less than one full bathroom must be provided for every four residents. Also, the bathroom cannot be accessed from a public corridor or area.

Granted By: Carol J. Galante, Acting Assistant Secretary for Housing—Federal Housing Commissioner.

Date Granted: May 9, 2012.

Reason Waived: The dementia care and most of the assisted living residents at the Elderberry Square facility need assistance with bathing and the needed care presents special circumstances that do not exist in a traditional assisted living facility. In terms of the building, the “hallways” which the residents in each building must cross in order to bathe are not located in an area that will be frequented by anyone other than staff or other residents, and on this basis the waiver was granted.

Contact: Vance T. Morris, Special Assistant, Office of Healthcare Programs, Office of Housing, Department of Housing and Urban Development, 451 Seventh Street SW., Room 2337, Washington, DC 20410, telephone (202) 402-2419.

• Regulation: 24 CFR 232.3.

Project/Activity: Autumn Years at Newport Mesa located in Costa Mesa, CA.

Nature of Requirement: HUD's regulation at § 232.3 mandates in a board and care home or assisted living facility that the bathroom cannot be accessed from a public corridor or area.

Granted By: Carol J. Galante, Acting Assistant Secretary for Housing—Federal Housing Commissioner.

Date Granted: June 14, 2012.

Reason Waived: All of the residents are Autumn Years dementia care residents and require assistance with bathing and toileting. Consequently, Autumn Years has toileting and shower rooms located outside of the units. This allows for a larger space, giving their staff more room to provide assistance to the residents, and for these reasons the waiver was granted.

Contact: Vance T. Morris, Special Assistant, Office of Healthcare Programs, Office of Housing, Department of Housing and Urban Development, 451 Seventh Street SW., Room 2337, Washington, DC 20410, telephone (202) 402-2419.

• Regulation: 24 CFR 891.100(d).

Project/Activity: Wellspring Tonini, Louisville, KY,

Project Number: 083-HD103/KY36-Q091-002.

Nature of Requirement: Section 891.100(d) prohibits amendment of the amount of the approved capital advance funds prior to closing.

Granted By: Carol J. Galante, Acting Assistant Secretary for Housing—Federal Housing Commissioner.

Date Granted: April 11, 2012.

Reason Waived: The project is economically designed and comparable in cost to similar projects in the area, and the sponsor/owner exhausted all efforts to obtain additional funding from other sources.

Contact: Catherine M. Brennan, Director, Office of Housing Assistance and Grant Administration, Office of Housing, Department of Housing and Urban Development, 451 Seventh Street SW., Room 6138, Washington, DC 20410, telephone (202) 708-3000.

• Regulation: 24 CFR 891.100(d).

Project/Activity: Franklin Senior Housing, Inc, Franklin, WI,

Project Number: 075-EE145/WI39-S091-003.

Nature of Requirement: Section 891.100(d) prohibits amendment of the amount of the approved capital advance funds prior to closing.

Granted By: Carol J. Galante, Acting Assistant Secretary for Housing—Federal Housing Commissioner.

Date Granted: April 11, 2012.

Reason Waived: The project is economically designed and comparable in cost to similar projects in the area, and the sponsor/owner exhausted all efforts to obtain additional funding from other sources.

Contact: Catherine M. Brennan, Director, Office of Housing Assistance and Grant Administration, Office of Housing, Department of Housing and Urban Development, 451 Seventh Street SW., Room 6138, Washington, DC 20410, telephone (202) 708-3000.

• Regulation: 24 CFR 891.100(d).

Project/Activity: PVCDC/St. Andrews Apartments, El Paso, TX,

Project Number: 113-HD039/TX16-Q091-001.

Nature of Requirement: Section 891.100(d) prohibits amendment of the amount of the approved capital advance funds prior to closing.

Granted By: Carol J. Galante, Acting Assistant Secretary for Housing—Federal Housing Commissioner.

Date Granted: May 2, 2012.

Reason Waived: The project is economically designed and comparable in cost to similar projects in the area, and the sponsor/owner exhausted all efforts to obtain additional funding from other sources.

Contact: Catherine M. Brennan, Director, Office of Housing Assistance and Grant Administration, Office of Housing, Department of Housing and Urban Development, 451 Seventh Street SW., Room 6138, Washington, DC 20410, telephone (202) 708-3000.

• Regulation: 24 CFR 891.100(d).

Project/Activity: The Woods of Crooked Creek Apartments, Indianapolis, IN,

Project Number: 073-HD087/IN36-Q091-001.

Nature of Requirement: Section 891.100(d) prohibits amendment of the amount of the approved capital advance funds prior to closing.

Granted By: Carol J. Galante, Acting Assistant Secretary for Housing—Federal Housing Commissioner.

Date Granted: May 30, 2012.

Reason Waived: The project is economically designed and comparable in cost to similar projects in the area, and the sponsor/owner exhausted all efforts to obtain additional funding from other sources.

Contact: Catherine M. Brennan, Director, Office of Housing Assistance and Grant Administration, Office of Housing, Department of Housing and Urban Development, 451 Seventh Street SW., Room 6138, Washington, DC 20410, telephone (202) 708-3000.

• Regulation: 24 CFR 891.100(d).

Project/Activity: Village at Oasis Park II, Mesa, AZ,

Project Number: 123-HD046/AZ20-Q091-002.

Nature of Requirement: Section 891.100(d) prohibits amendment of the amount of the approved capital advance funds prior to closing.

Granted By: Carol J. Galante, Acting Assistant Secretary for Housing—Federal Housing Commissioner.

Date Granted: May 30, 2012.

Reason Waived: The project is economically designed and comparable in cost to similar projects in the area, and the sponsor/owner exhausted all efforts to obtain additional funding from other sources.

Contact: Catherine M. Brennan, Director, Office of Housing Assistance and Grant Administration, Office of Housing, Department of Housing and Urban Development, 451 Seventh Street SW., Room 6138, Washington, DC 20410, telephone (202) 708-3000.

• Regulation: 24 CFR 891.100(d).

Project/Activity: Bonney Brook, Cornwall, CT, Project Number: 017-EE109/CT26-S091-006.

Nature of Requirement: Section 891.100(d) prohibits amendment of the amount of the approved capital advance funds prior to closing.

Granted By: Carol J. Galante, Acting Assistant Secretary for Housing—Federal Housing Commissioner.

Date Granted: May 30, 2012.

Reason Waived: The project is economically designed and comparable in cost to similar projects in the area, and the sponsor/owner exhausted all efforts to obtain additional funding from other sources.

Contact: Catherine M. Brennan, Director, Office of Housing Assistance and Grant Administration, Office of Housing, Department of Housing and Urban Development, 451 Seventh Street SW., Room 6138, Washington, DC 20410, telephone (202) 708-3000.

• Regulation: 24 CFR 891.100(d).

Project/Activity: Flagship City Apartments, Erie, PA, Project Number: 033HD114/PA28-Q091-004.

Nature of Requirement: Section 891.100(d) prohibits amendment of the amount of the approved capital advance funds prior to closing.

Granted By: Carol J. Galante, Acting Assistant Secretary for Housing—Federal Housing Commissioner.

Date Granted: June 16, 2012.

Reason Waived: The project is economically designed and comparable in cost to similar projects in the area, and the sponsor/owner exhausted all efforts to obtain additional funding from other sources.

Contact: Catherine M. Brennan, Director, Office of Housing Assistance and Grant Administration, Office of Housing, Department of Housing and Urban Development, 451 Seventh Street SW., Room 6138, Washington, DC 20410, telephone (202)708-3000.

• Regulation: 24 CFR 891.130(a).

Project/Activity: Parallel Senior Villas, Kansas City, KS, Project Number: 084-EE076/KS16-S091-003.

Nature of Requirement: Section 891.130(a) prohibits an identity of interest between the sponsor or the owner with development team members or between development team members until two years after final closing.

Granted By: Carol J. Galante, Acting Assistant Secretary for Housing—Federal Housing Commissioner.

Date Granted: April 13, 2012.

Reason Waived: The land sale transaction between the sponsor and owner are considered no longer a prohibited relationship by the Department.

Contact: Catherine M. Brennan, Director, Office of Housing Assistance and Grant Administration, Office of Housing, Department of Housing and Urban Development, 451 Seventh Street SW., Room 6138, Washington, DC 20410, telephone (202)708-3000.

• Regulation: 24 CFR 891.130(b).

Project/Activity: Tyee Court, Soldotna, AK, Project Number: 176-HD035/AK06-Q101-002

Nature of Requirement: Section 891.130(b) prohibits contracts between the owner (or borrower, as applicable) and the sponsor or the sponsor's non-profit.

Granted By: Carol J. Galante, Acting Assistant Secretary for Housing—Federal Housing Commissioner.

Date Granted: May 30, 2012.

Reason Waived: It was determined that land seller would not profit from the transaction.

Contact: Catherine M. Brennan, Director, Office of Housing Assistance and Grant Administration, Office of Housing, Department of Housing and Urban Development, 451 Seventh Street SW., Room 6138, Washington, DC 20410, telephone (202)708-3000.

• Regulation: 24 CFR 891.130(b).

Project/Activity: Cherry Park, Vancouver, WA, Project Number: 126-HD051/OR16-Q091-002.

Nature of Requirement: Section 891.130(b) prohibits contracts between the owner (or borrower, as applicable) and the sponsor or the sponsor's non-profit affiliate.

Granted By: Carol J. Galante, Acting Assistant Secretary for Housing—Federal Housing Commissioner.

Date Granted: May 30, 2012.

Reason Waived: It was determined that the land seller would not profit from the transaction.

Contact: Catherine M. Brennan, Director, Office of Housing Assistance and Grant Administration, Office of Housing, Department of Housing and Urban Development, 451 Seventh Street SW., Room 6138, Washington, DC 20410, telephone (202)708-3000.

• Regulation: 24 CFR 891.100(d) and 24 CFR 891.165.

Project/Activity: Dutchess Community Living, Poughkeepsie, NY, Project Number: 012-HD120/NY36-Q031-005.

Nature of Requirement: Section 891.100(d) prohibits amendment of the amount of the approved capital advance funds prior to closing. Section 891.165 provides that the duration of the fund reservation of the capital advance is 18 months from the date of issuance with limited exceptions up to 24 months, as approved by HUD on a case-by-case basis.

Granted By: Carol J. Galante, Acting Assistant Secretary for Housing—Federal Housing Commissioner.

Date Granted: April 27, 2012.

Reason Waived: The project is economically designed and comparable in cost to similar projects in the area, and the sponsor/owner exhausted all efforts to obtain additional funding from other sources. Additional time was needed for the project to achieve initial closing.

Contact: Catherine M. Brennan, Director, Office of Housing Assistance and Grant Administration, Office of Housing. Department of Housing and Urban Development, 451 Seventh Street SW., Room 6138, Washington, DC 20410, telephone (202) 708-3000.

• Regulation: 24 CFR 891.165.

Project/Activity: Hale Mahaolu Ehiku, Phase II, Kihei, HI, Project Number: 140-EE035/HI10-S051-002.

Nature of Requirement: Section 891.165 provides that the duration of the fund reservation of the capital advance is 18 months from the date of issuance with limited exceptions up to 24 months, as approved by HUD on a case-by-case basis.

Granted By: Carol J. Galante, Acting Assistant Secretary for Housing—Federal Housing Commissioner.

Date Granted: April 10, 2012.

Reason Waived: Additional time was needed for the various agencies involved in the development of this CAUC project to finalize closing documents.

Contact: Catherine M. Brennan, Director, Office of Housing Assistance and Grant Administration, Office of Housing, Department of Housing and Urban Development, 451 Seventh Street SW., Room 6138, Washington, DC 20410, telephone (202) 708-3000.

• Regulation: 24 CFR 891.165.

Project/Activity: Westcliff Heights Senior Apartments, Las Vegas, NV, Project Number: 125-EE131/NV25-S081-001.

Nature of Requirement: Section 891.165 provides that the duration of the fund reservation of the capital advance is 18 months from the date of issuance with limited exceptions up to 24 months, as approved by HUD on a case-by-case basis.

Granted By: Carol J. Galante, Acting Assistant Secretary for Housing—Federal Housing Commissioner.

Date Granted: April 13, 2012.

Reason Waived: Additional time was needed to process the firm commitment application for this mixed finance project to start construction and reach initial closing.

Contact: Catherine M. Brennan, Director, Office of Housing Assistance and Grant Administration, Office of Housing, Department of Housing and Urban Development, 451 Seventh Street SW., Room 6138, Washington, DC 20410, telephone (202) 708-3000.

• Regulation: 24 CFR 891.165.

Project/Activity: AHEPA Apartments #63, Tallmadge, OH, Project Number: 042-EE218/OH12-S071-004.

Nature of Requirement: Section 891.165 provides that the duration of the fund reservation of the capital advance is 18 months from the date of issuance with limited exceptions up to 24 months, as approved by HUD on a case-by-case basis.

Granted By: Carol J. Galante, Acting Assistant Secretary for Housing—Federal Housing Commissioner.

Date Granted: April 25, 2012.

Reason Waived: Additional time was needed for the project to achieve initial closing.

Contact: Catherine M. Brennan, Director, Office of Housing Assistance and Grant Administration, Office of Housing, Department of Housing and Urban Development, 451 Seventh Street SW., Room 6138, Washington, DC 20410, telephone (202)708-3000.

• Regulation: 24 CFR 891.165.

Project/Activity: Cheriton Heights, West Roxbury, MS, Project Number: 023-EE225/MA06-S081-001.

Nature of Requirement: Section 891.165 provides that the duration of the fund reservation of the capital advance is 18 months from the date of issuance with limited exceptions up to 24 months, as approved by HUD on a case-by-case basis.

Granted By: Carol J. Galante, Acting Assistant Secretary for Housing—Federal Housing Commissioner.

Date Granted: May 30, 2012.

Reason Waived: Additional time was needed for the project to achieve initial closing.

Contact: Catherine M. Brennan, Director, Office of Housing Assistance and Grant Administration, Office of Housing, Department of Housing and Urban Development, 451 Seventh Street SW., Room 6138, Washington, DC 20410, telephone (202)708-3000.

• Regulation: 24 CFR 891.165, 24 CFR 891.830(b), 24 CFR 891.830(c)(4) and 24 CFR 891.830 (c)(5).

Project/Activity: 121 Golden Gate Avenue, San Francisco, CA, Project Number: 121-EE022/CA39-S091-002.

Nature of Requirement: Section 891.165 provides that the duration of the fund reservation of the capital advance is 18 months from the date of issuance with limited exceptions up to 24 months, as approved by HUD on a case-by-case basis. Section 891.830(b) requires that the capital advance funds be drawn down only in approved ratio to other funds, in accordance with a drawdown schedule approved by HUD. Section 891.830(c)(4) prohibits the capital advance funds from paying off bridge or construction financing, or repaying or collateralizing bonds, and § 891.830(c)(5) provides the amount of the drawdown is consistent with the ratio of section 202 or section 811 supportive housing units to other units.

Granted By: Carol J. Galante, Acting Assistant Secretary for Housing—Federal Housing Commissioner.

Date Granted: April 30, 2012.

Reason Waived: Additional time was needed to allow for demolition and construction of the two-story structure in addition to construction of the residential units for this mixed finance project. HUD in its response to the public comments in the final rule published September 23, 2005, stated “while HUD generally expects the capital advance funds to be drawn down in a one-to-one ratio for eligible costs actually incurred, HUD may permit on a case-by-case basis, some variance from the drawdown requirements as needed for the success of the project.” Therefore, the waiver was granted to permit capital advance funds to be used to collateralize the tax exempt bonds issued to finance the construction of the project and to pay off a portion of the tax-exempt bonds that strictly relate to capital advance eligible costs. Also, to allow the capital advance funds to be drawn down in a different mechanism than a pro rata basis in order to satisfy the 50 percent test of the Internal Revenue Service (IRS).

Contact: Catherine M. Brennan, Director, Office of Housing Assistance and Grant Administration, Office of Housing, Department of Housing and Urban Development, 451 Seventh Street SW., Room 6138, Washington, DC 20410, telephone (202)708-3000.

• Regulation: 24 CFR 891.205.

Project/Activity: Belleville House, Phase II, North Kingstown, RI, Project Number: 016-EE084/RI43-S101-002.

Nature of Requirement: Section 891.205 requires Section 202 project owners to have tax exemption status under section 501(c)(3) or (c)(4) of the Internal Revenue Code.

Granted By: Carol J. Galante, Acting Assistant Secretary for Housing—Federal Housing Commissioner.

Date Granted: April 13, 2012.

Reason Waived: It was determined that the projects would be adjacent to one another and time and cost savings would be realized from not having to create a separate owner entity.

Contact: Catherine M. Brennan, Director, Office of Housing Assistance and Grant Administration, Office of Housing, Department of Housing and Urban Development, 451 Seventh Street SW., Room 6138, Washington, DC 20410, telephone (202)708-3000.

• Regulation: 24 CFR 891.205.

Project/Activity: Hallsville Court Phase 2A Project Number: 024-EE140/NH36-S101-003.

Nature of Requirement: Section 891.205 requires Section 202 project owners to have tax exemption status under section 501(c)(3) or (c)(4) of the Internal Revenue Code.

Granted By: Carol J. Galante, Acting Assistant Secretary for Housing—Federal Housing Commissioner.

Date Granted: May 7, 2012.

Reason Waived: It was determined that the projects would be on the same site and there would be time and cost savings from not having to create a separate owner entity.

Contact: Catherine M. Brennan, Director, Office of Housing Assistance and Grant Administration, Office of Housing, Department of Housing and Urban Development, 451 Seventh Street SW., Room 6138, Washington, DC 20410, telephone (202)708-3000.

• Regulation: 24 CFR 891.205.

Project/Activity: Independent Living Horizons 14, Harlem, GA, Project Number: 061-EE181/GA06-S101-001.

Nature of Requirement: Section 891.205 requires Section 202 project owners to have tax exemption status under Section 501(c) (3) or (c) (4) of the Internal Revenue Code.

Granted By: Carol J. Galante, Acting Assistant Secretary for Housing—Federal Housing Commissioner.

Date Granted: May 21, 2012.

Reason Waived: It was determined that the projects would be on the same site and there would be time and cost savings from not having to create a separate owner entity.

Contact: Catherine M. Brennan, Director, Office of Housing Assistance and Grant Administration, Office of Housing, Department of Housing and Urban Development, 451 Seventh Street SW., Room 6138, Washington, DC 20410, telephone (202)708-3000.

III. Regulatory Waivers Granted by the Office of Public and Indian Housing

For further information about the following regulatory waivers, please see the name of the contact person that immediately follows the description of the waiver granted.

• Regulation: 24 CFR 5.801(d)(1).

Project/Activity: Housing Authority and Urban Development Agency of the City of Atlantic City, (NJ014), Atlantic City, New Jersey.

Nature of Requirement: The regulation establishes certain reporting compliance dates. The audited financial statements are required to be submitted to the Real Estate Assessment Center (REAC) no later than nine months after the housing authority's (HA) fiscal year end (FYE), in accordance with the Single Audit Act and OMB Circular A-133.

Granted By: Sandra B. Henriquez, Assistant Secretary for Public and Indian Housing.

Date Granted: May 4, 2012.

Reason Waived: The housing authority (HA) stated that its reason for not submitting its financial information by the due date was because of miscommunication between the HA and its auditor. Specifically, according to the HA, the auditor submitted the audit to REAC on time. However, the third and final, submission procedure that requires the HA to submit the financial information to REAC, was inadvertently not performed until January 5, 2012. The waiver was granted for these reasons.

Contact: Johnson Abraham, Program Manager, NASS, Real Estate Assessment Center, Office of Public and Indian Housing, Department of Housing and Urban Development, 550 12th Street SW., Suite 100, Washington, DC 20410, telephone (202) 475-8583.

• Regulation: 24 CFR 85.6(c).

Project/Activity: Baltimore Housing Authority.

Nature of Requirement: HUD's regulation at 24 CFR 85.6(c) allows HUD to authorize the procurement through a non-competitive proposal.

Granted By: Sandra B. Henriquez, Assistant Secretary of Public and Indian Housing

Date Granted: June 12, 2012.

Reason Waived: HUD reviewed and approved the justifications for the Baltimore Housing Authority's decision to procure the Regional Administrator and the Regional Administrator's noncompetitive procurement of a subcontractor through a noncompetitive proposal under the Settlement Agreement.

Contact: Dominique Blom, Deputy Assistant Secretary for the Office of Public Housing Investments, Office of Public and Indian Housing, Department of Housing and Urban Development, 451 Seventh Street SW., Room 4130, Washington, DC 20140, telephone (202) 402-4181.

• Regulation: 24 CFR 902.20.

Project/Activity: Lodi Housing Authority, (NJ011), Lodi, NJ.

Nature of Requirement: The objective of this regulation is to determine whether a housing authority (HA) is meeting the standard of decent, safe, sanitary, and in good repair. The Real Estate Assessment Center (REAC) provides for an independent physical inspection of a PHA's property of properties that includes a statistically valid sample of the units.

Granted By: Sandra B. Henriquez, Assistant Secretary for Public and Indian Housing.

Date Granted: April 5, 2012.

Reason Waived: The housing authority (HA) was impacted by severe flooding following Hurricane Irene and was located in a presidentially-declared disaster area. The HA experienced extensive physical damage throughout its inventory, and there remained a number of vacant units as a result. The waiver was granted because the circumstances surrounding the waiver request were unusual and beyond the HA's control. Even though the HA would not receive a Public Housing Assessment System (PHAS) score and designation, the HA would still be required to submit its unaudited and audited financial information in accordance with the Uniform Financial Reporting Standards Rule (24 CFR part 5), and the PHAS (24 CFR 902.33).

Contact: Johnson Abraham, Program Manager, NASS, Real Estate Assessment Center, Office of Public and Indian Housing, Department of Housing and Urban Development, 550 12th Street SW., Suite 100, Washington, DC 20410, telephone (202) 475-8583.

• Regulation: 24 CFR 941.306(c).

Project/Activity: Philadelphia Housing Authority (PHA), Community Based Management Office Scattered Site Development #903

Nature of Requirement: HUD's regulation at 24 CFR 941.306(c) requires that the construction is within limits of Housing Construction Costs.

Granted By: Sandra B. Henriquez, Assistant Secretary of Public and Indian Housing.

Date Granted: May 17, 2012.

Reason Waived: As a result of the modifications to two buildings, construction costs exceeded the Housing Cost Cap limits. Given the extraordinary circumstances related to zoning variance litigation and the modifications necessary for the housing authority to complete in order to comply with the Philadelphia current zoning code, the PHA requested a waiver. HUD granted the waiver to permit the PHA to continue with its development.

Contact: Dominique Blom, Deputy Assistant Secretary for the Office of Public Housing Investments, Office of Public and Indian Housing, Department of Housing and Urban Development, 451 Seventh Street SW., Room 4130, Washington, DC 20140, telephone (202) 402-4181.

• Regulation: 24 CFR 941.606(n)(1)(ii).

Project/Activity: Home Forward (formerly known as the Housing Authority of Portland) in Portland, Oregon.

Nature of Requirement: HUD's regulation at 24 CFR 941.606(n)(1)(ii) states that a Housing Authority will use an open and competitive process pursuant to 24 CFR 85.36 in the procurement of a partner and/or owner entity to develop public housing.

Granted By: Sandra B. Henriquez, Assistant Secretary for Public and Indian Housing.

Date Granted: June 8, 2012.

Reason Waived: Home Forward was approached by Lifeworks, a Portland non-profit organization and provider health and addiction services, to assist with development of a new residential facility to replace their current obsolete facility. Lifeworks had previously engaged Gerding Eden Development Company (GED) as developer and design/build contractor. Home Forward stated that due to GED's past involvement in the project, known design expertise and the integrated nature of the two housing components and potential time and cost savings that the non-competitive selection of GED as the design/build contractor is an important aspect of the project. HUD has reviewed the request and concurs with the non-competitive procurement of GED.

Contact: Dominique Blom, Deputy Assistant Secretary, U.S. Department of Housing and Urban Development, Office of Public Housing Investments, Office of Public and Indian Housing, Department of Housing and Urban Development, 451 Seventh St SW., Room 4130, Washington, DC 20410, telephone (202) 402-4181.

• Regulation: 24 CFR 941.606(n)(1)(ii)(B).

Project/Activity: Detroit Housing Commission, Herman Gardens—Gardenview Phase IIIC, HOPE VI Grant: MI28URD001I296.

Nature of Requirement: HUD's regulation at 24 CFR 941.606(n)(1)(ii)(B) requires that “if the partner and/or owner entity (or any other entity with and identity of interest with such parties) wants to serve as the general contractor for the project or development, it may award itself the construction contract only if it can demonstrate to HUD's satisfaction that its bid is the lowest bid submitted in response to a public request for bids.”

Granted By: Sandra B. Henriquez, Assistant Secretary for Public and Indian Housing.

Date Granted: April 18, 2012.

Reason Waived: The waiver was granted because the Detroit Housing Commission submitted an independent cost estimate.

Contact: Dominique Blom, Deputy Assistant Secretary for the Office of Public Housing Investments, Office of Public and Indian Housing, Department of Housing and Urban Development, 451 Seventh Street SW., Room 4130, Washington, DC 20140, telephone (202) 402-4181.

• Regulation: 24 CFR 941.606(n)(1)(ii)(B).

Project/Activity: Mississippi Regional Housing Authority No. VIII, Azalea Gardens

Nature of Requirement: HUD's regulation at 24 CFR 941.606(n)(1)(ii)(B) requires that “if the partner and/or owner entity (or any other entity with and identity of interest with such parties) wants to serve as the general contractor for the project or development, it may award itself the construction contract only if it can demonstrate to HUD's satisfaction that its bid is the lowest bid submitted in response to a public request for bids.”

Granted By: Sandra B. Henriquez, Assistant Secretary for Public and Indian Housing.

Date Granted: April 18, 2012.

Reason Waived: The waiver was granted because the Mississippi Regional Housing Authority submitted an independent cost estimate.

Contact: Dominique Blom, Deputy Assistant Secretary for the Office of Public Housing Investments, Office of Public and Indian Housing, Department of Housing and Urban Development, 451 Seventh Street SW., Room 4130, Washington, DC 20140, telephone (202) 402-4181.

• Regulation: 24 CFR 941.606(n)(1)(ii)(B).

Project/Activity: Wausau Community Development Authority, Riverview Towers Mixed Finance Project.

Nature of Requirement: HUD's regulation at 24 CFR 941.606(n)(1)(ii)(B) requires that “if the partner and/or owner entity (or any other entity with and identity of interest with such parties) wants to serve as the general contractor for the project or development, it may award itself the construction contract only if it can demonstrate to HUD's satisfaction that its bid is the lowest bid submitted in response to a public request for bids.”

Granted By: Sandra B. Henriquez, Assistant Secretary for Public and Indian Housing.

Date Granted: June 12, 2012.

Reason Waived: The waiver was granted because Wausau Community Development Authority submitted an independent cost estimate.

Contact: Dominique Blom, Deputy Assistant Secretary for the Office of Public Housing Investments, Office of Public and Indian Housing, Department of Housing and Urban Development, 451 Seventh Street SW., Room 4130, Washington, DC 20140, telephone (202) 402-4181.

• Regulation: 24 CFR 941.606(n)(1)(ii)(B).

Project/Activity: Housing Authority of Covington, Jacob Price Homes HOPE VI Grant: KY36URD002I109.

Nature of Requirement: HUD's regulation at 24 CFR 941.606(n)(1)(ii)(B) requires that “if the partner and/or owner entity (or any other entity with and identity of interest with such parties) wants to serve as the general contractor for the project or development, it may award itself the construction contract only if it can demonstrate to HUD's satisfaction that its bid is the lowest bid submitted in response to a public request for bids.”

Granted By: Sandra B. Henriquez, Assistant Secretary for Public and Indian Housing.

Date Granted: June 12, 2012.

Reason Waived: The waiver was granted because the Housing Authority of Covington submitted an independent cost estimate.

Contact: Dominique Blom, Deputy Assistant Secretary for the Office of Public Housing Investments, Office of Public and Indian Housing, Department of Housing and Urban Development, 451 Seventh Street SW., Washington, DC 20140, Room 4130, telephone (202) 402-4181.

• Regulation: 24 CFR 941.610(a)(1) through (a)(7).

Project/Activity: Closing of the Boulevard Homes HOPE VI Seniors Project—NC19URD003I109 of the Charlotte Housing Authority (CHA) in North Carolina.

Nature of Requirement: HUD's regulation at 24 CFR 941.610(a)(1) through (a)(7) requires HUD review and approval of certain legal documents relating to mixed-finance development before a closing can occur and public housing funds can be released. In lieu of HUD's review of these documents, CHA must submit certifications to the accuracy and authenticity of the legal documents detailed in 24 CFR 941.610 (a)(1)-(a)(7).

Granted By: Sandra B. Henriquez, Assistant Secretary for Public and Indian Housing

Date Granted: May 3, 2012.

Reason Waived: The waiver was granted because it would streamline the review process and expedite the closing and public housing production, as well as for the following reasons: (1) CHA has extensive mixed-finance experience at its four existing HOPE VI projects and with other new construction projects, and will use the same self-development approach; (2) the financial structure of the project is the same as previous mixed-finance projects undertaken by CHA, which underwent full evidentiary document review and approval by HUD; (3) CHA will be represented by legal counsel that has extensive experience with mixed-finance and Low Income Housing Tax Credits, and has handled many of CHA's previous projects; and (4) the principals at Laurel Street Residential have extensive development experience in affordable and public housing development.

Contact: Dominique Blom, Deputy Assistant Secretary for the Office of Public Housing Investments, Office of Public and Indian Housing, Department of Housing and Urban Development, 451 Seventh Street SW., Washington, DC 20140, Room 4130, telephone (202) 402-4181.

• Regulation: 24 CFR 970.19(b).

Project/Activity: King County Housing Authority (KCHA), Greenbridge HOPE VI Grant No.WA19URD002I101 and Seola Gardens HOPE VI Grant No. WA19URD002I108

Nature of Requirement: HUD's regulation at 24 CFR 970.19(b) states that a Housing Authority may pay the allowable reasonable costs of disposition out of the gross proceeds, as approved by HUD.

Granted By: Deborah Hernandez for Sandra B. Henriquez, Assistant Secretary for Public and Indian Housing.

Date Granted: May 11, 2012.

Reason Waived: HUD has reviewed and approved in concept KCHA's request to use disposition proceeds at the Greenbridge and Seola Gardens HOPE VI sites to repay the reasonable costs of infrastructure construction which were state required as a precondition to disposition of the for-sale parcels and which were described in the HUD-approved HOPE VI revitalization plans. HUD reviewed the actual costs and, as permitted by this waiver, determined them to be reasonable. Therefore, HUD found good cause to waive 24 CFR 970.19(b) for the limited purpose of using gross proceeds to retire the debt associated with infrastructure for the for-sale lots, in addition to the costs otherwise allowable under 24 CFR 970.19(b).

Contact: Dominique Blom, Deputy Assistant Secretary, U.S. Department of Housing and Urban Development, Office of Public Housing Investments, Office of Public and Indian Housing, Department of Housing and Urban Development, 451 Seventh St. SW., Room 4130, Washington, DC, 20410, telephone (202) 402-4181.

• Regulation: 24 CFR 982.305(c)(1).

Project/Activity: Housing Authority of the County of Contra Costa (HACCC), Contra Costa County, CA.

Nature of Requirement: HUD's regulation at 24 CFR 982.305(c)(1) establishes the requirement that a housing assistance payments (HAP) contract must be executed no later than 60 calendar days from the beginning of the lease term.

Granted By: Sandra B. Henriquez, Assistant Secretary for Public and Indian Housing.

Date Granted: June 26, 2012.

Reason Waived: This waiver was granted as a reasonable accommodation since the client's failure to initially sign the lease was due to her disability.

Contact: Laure Rawson, Director, Housing Voucher Management and Operations Division, Office of Public Housing and Voucher Programs, Office of Public and Indian Housing, Department of Housing and Urban Development, 451 Seventh Street SW., Room 4216, Washington, DC 20410, telephone (202) 708-0477.

• Regulation: 24 CFR 982.503(c), 982.503(c)(4)(ii) and 982.503(c)(5).

Project/Activity: Minot Housing Authority (MHA), Minot, ND.

Nature of Requirement: HUD's regulation 24 CFR 982.503(c) establishes the methodology for establishing exception payment standards for an area. HUD's regulation at 24 CFR 503(c)(4)(ii) states that HUD will only approve an exception payment standard amount after six months from the date of HUD approval of an exception payment standard amount above 110 percent to 120 percent of the published fair market rent (FMR). HUD's regulation at 24 CFR 982.503(c)(5) states that the total population of a HUD-approved exception areas in an FMR area may not include more than 50 percent of the population of the FMR area.

Granted By: Sandra B. Henriquez, Assistant Secretary for Public and Indian Housing.

Date Granted: June 5, 2012.

Reason Waived: These waivers were granted because of significant impact to the rental housing market caused by increased economic activity in the FMR area due to natural resource exploration.

Contact: Laure Rawson, Director, Housing Voucher Management and Operations Division, Office of Public Housing and Voucher Programs, Office of Public and Indian Housing, Department of Housing and Urban Development, 451 Seventh Street SW., Room 4216, Washington, DC 20410, telephone (202) 708-0477.

• Regulation: 24 CFR 982.503(c), 982.503(c)(4)(ii) and 982.503(c)(5).

Project/Activity: Burleigh County Housing Authority (BCHA), Burleigh County, ND.

Nature of Requirement: HUD's regulation at 24 CFR 982.503(c) establishes the methodology for establishing exception payment standards for an area. HUD's regulation at 24 CFR 503(c)(4)(ii) states that HUD will only approve an exception payment standard amount after six months from the date of HUD approval of an exception payment standard amount above 110 percent to 120 percent of the published fair market rent (FMR). HUD's regulation at 24 CFR 982.503(c)(5) states that the total population of a HUD-approved exception areas in an FMR area may not include more than 50 percent of the population of the FMR area.

Granted By: Sandra B. Henriquez, Assistant Secretary for Public and Indian Housing.

Date Granted: June 6, 2012.

Reason Waived: These waivers were granted because of significant impact to the rental housing market in the Bismarck, ND, FMR area caused by increased economic activity due to natural resource exploration.

Contact: Laure Rawson, Director, Housing Voucher Management and Operations Division, Office of Public Housing and Voucher Programs, Office of Public and Indian Housing, Department of Housing and Urban Development, 451 Seventh Street SW., Room 4216, Washington, DC 20410, telephone (202) 708-0477.

• Regulation: 24 CFR 982.503(d) and 982.505(c)(3).

Project/Activity: Adams Metropolitan Housing Authority (AMHA), Adams, OH.

Nature of Requirement: HUD's regulation at 24 CFR 982.503(d) allows HUD to consider a public housing agency's request for approval to establish a payment standard that is lower than the basic range of 90 to 110 percent of the published fair market rent for each/any bedroom size, but HUD will not approve such payment standard amounts if the family share for more than 40 percent of voucher participants exceeds 30 percent of monthly adjusted income. HUD's regulation at 24 CFR 982.505(c)(3) states that, if the amount on the payment standard schedule is decreased during the term of the housing assistance payments (HAP) contract, the lower payment standard amount generally must be used to calculate the monthly HAP for the family beginning on the effective date of the family's second regular reexamination following the effective date of the decrease.

Granted By: Sandra B. Henriquez, Assistant Secretary for Public and Indian Housing.

Date Granted: June 6, 2012.

Reason Waived: These waivers were granted because these cost-saving measures would enable the AMHA to manage its Housing Choice Voucher program within allocated budget authority and avoid the termination of HAP contracts due to insufficient funding.

Contact: Laure Rawson, Director, Housing Voucher Management and Operations Division, Office of Public Housing and Voucher Programs, Office of Public and Indian Housing, Department of Housing and Urban Development, 451 Seventh Street SW., Room 4216, Washington, DC 20410, telephone (202) 708-0477.

• Regulation: 24 CFR 982.505(c)(3).

Project/Activity: Fairfield Housing Authority (FHA), Fairfield, CT.

Nature of Requirement: HUD's regulation 24 CFR 982.505(c)(3) states that, if the amount on the payment standard schedule is decreased during the term of the housing assistance payments (HAP) contract, the lower payment standard amount generally must be used to calculate the monthly HAP for the family beginning on the effective date of the family's second regular reexamination following the effective date of the decrease.

Granted By: Sandra B. Henriquez, Assistant Secretary for Public and Indian Housing.

Date Granted: April 6, 2012.

Reason Waived: This waiver was granted because this cost-saving measure would enable the FHA to manage its Housing Choice Voucher program within allocated budget authority and avoid the termination of HAP contracts due to insufficient funding.

Contact: Laure Rawson, Director, Housing Voucher Management and Operations Division, Office of Public Housing and Voucher Programs, Office of Public and Indian Housing, Department of Housing and Urban Development, 451 Seventh Street SW., Room 4216, Washington, DC 20410, telephone (202) 708-0477.

• Regulation: 24 CFR 982.505(c)(3).

Project/Activity: Reed City Housing Commission (RCHC), Reed City, MI.

Nature of Requirement: HUD's regulation at 24 CFR 982.505(c)(3) states that, if the amount on the payment standard schedule is decreased during the term of the housing assistance payments (HAP) contract, the lower payment standard amount generally must be used to calculate the monthly HAP for the family beginning on the effective date of the family's second regular reexamination following the effective date of the decrease.

Granted By: Sandra B. Henriquez, Assistant Secretary for Public and Indian Housing.

Date Granted: April 6, 2012.

Reason Waived: This waiver was granted because this cost-saving measure would enable the RCHC to manage its Housing Choice Voucher program within allocated budget authority and avoid the termination of HAP contracts due to insufficient funding.

Contact: Laure Rawson, Director, Housing Voucher Management and Operations Division, Office of Public Housing and Voucher Programs, Office of Public and Indian Housing, Department of Housing and Urban Development, 451 Seventh Street SW., Room 4216, Washington, DC 20410, telephone (202) 708-0477.

• Regulation: 24 CFR 982.505(c)(3).

Project/Activity: Housing Authority of the City of Pasco and Franklin County (HACPFC), Seattle, WA.

Nature of Requirement: HUD's regulation 24 CFR 982.505(c)(3) states that, if the amount on the payment standard schedule is decreased during the term of the housing assistance payments (HAP) contract, the lower payment standard amount generally must be used to calculate the monthly HAP for the family beginning on the effective date of the family's second regular reexamination following the effective date of the decrease.

Granted By: Sandra B. Henriquez, Assistant Secretary for Public and Indian Housing.

Date Granted: May 3, 2012.

Reason Waived: This waiver was granted because this cost-saving measure would enable the HACPFC to manage its Housing Choice Voucher program within allocated budget authority and avoid the termination of HAP contracts due to insufficient funding.

Contact: Laure Rawson, Director, Housing Voucher Management and Operations Division, Office of Public Housing and Voucher Programs, Office of Public and Indian Housing, Department of Housing and Urban Development, 451 Seventh Street SW., Room 4216, Washington, DC 20410, telephone (202) 708-0477.

• Regulation: 24 CFR 982.505(c)(3).

Project/Activity: Mitchell Housing Authority (MHA), Mitchell, SD.

Nature of Requirement: HUD's regulation at 24 CFR 982.505(c)(3) states that, if the amount on the payment standard schedule is decreased during the term of the housing assistance payments (HAP) contract, the lower payment standard amount generally must be used to calculate the monthly HAP for the family beginning on the effective date of the family's second regular reexamination following the effective date of the decrease.

Granted By: Sandra B. Henriquez, Assistant Secretary for Public and Indian Housing.

Date Granted: May 31, 2012.

Reason Waived: This waiver was granted because this cost-saving measure would enable the MHA to manage its Housing Choice Voucher program within allocated budget authority and avoid the termination of HAP contracts due to insufficient funding.

Contact: Laure Rawson, Director, Housing Voucher Management and Operations Division, Office of Public Housing and Voucher Programs, Office of Public and Indian Housing, Department of Housing and Urban Development, 451 Seventh Street SW., Room 4216, Washington, DC 20410, telephone (202) 708-0477.

• Regulation: 24 CFR 982.505(c)(3).

Project/Activity: Housing Authority of the City of Eloy (HACE), Eloy, AZ.

Nature of Requirement: HUD's regulation at 24 CFR 982.505(c)(3) states that, if the amount on the payment standard schedule is decreased during the term of the housing assistance payments (HAP) contract, the lower payment standard amount generally must be used to calculate the monthly HAP for the family beginning on the effective date of the family's second regular reexamination following the effective date of the decrease.

Granted By: Sandra B. Henriquez, Assistant Secretary for Public and Indian Housing.

Date Granted: May 31, 2012.

Reason Waived: This waiver was granted because this cost-saving measure would enable the HACE to manage its Housing Choice Voucher program within allocated budget authority and avoid the termination of HAP contracts due to insufficient funding.

Contact: Laure Rawson, Director, Housing Voucher Management and Operations Division, Office of Public Housing and Voucher Programs, Office of Public and Indian Housing, Department of Housing and Urban Development, 451 Seventh Street SW., Room 4216, Washington, DC 20410, telephone (202) 708-0477.

• Regulation: 24 CFR 982.505(c)(3).

Project/Activity: Emmetsburg Low-Rent Housing Agency (ELRHA), Emmetsburg, IA.

Nature of Requirement: HUD's regulation at 24 CFR 982.505(c)(3) states that, if the amount on the payment standard schedule is decreased during the term of the housing assistance payments (HAP) contract, the lower payment standard amount generally must be used to calculate the monthly HAP for the family beginning on the effective date of the family's second regular reexamination following the effective date of the decrease.

Granted By: Sandra B. Henriquez, Assistant Secretary for Public and Indian Housing.

Date Granted: May 31, 2012.

Reason Waived: This waiver was granted because this cost-saving measure would enable the ELRHA to manage its Housing Choice Voucher program within allocated budget authority and avoid the termination of HAP contracts due to insufficient funding.

Contact: Laure Rawson, Director, Housing Voucher Management and Operations Division, Office of Public Housing and Voucher Programs, Office of Public and Indian Housing, Department of Housing and Urban Development, 451 Seventh Street SW., Room 4216, Washington, DC 20410, telephone (202) 708-0477.

• Regulation: 24 CFR 982.505(c)(3).

Project/Activity: Watertown Housing and Redevelopment Commission (WHRC), Watertown, SD.

Nature of Requirement: HUD's regulation at 24 CFR 982.505(c)(3) states that, if the amount on the payment standard schedule is decreased during the term of the housing assistance payments (HAP) contract, the lower payment standard amount generally must be used to calculate the monthly HAP for the family beginning on the effective date of the family's second regular reexamination following the effective date of the decrease.

Granted By: Sandra B. Henriquez, Assistant Secretary for Public and Indian Housing.

Date Granted: May 31, 2012.

Reason Waived: This waiver was granted because this cost-saving measure would enable the WRCHC to manage its Housing Choice Voucher program within allocated budget authority and avoid the termination of HAP contracts due to insufficient funding.

Contact: Laure Rawson, Director, Housing Voucher Management and Operations Division, Office of Public Housing and Voucher Programs, Office of Public and Indian Housing, Department of Housing and Urban Development, 451 Seventh Street SW., Room 4216, Washington, DC 20410, telephone (202) 708-0477.

• Regulation: 24 CFR 982.505(c)(3).

Project/Activity: Bremerton Housing Authority (BHA), Bremerton, WA.

Nature of Requirement: HUD's regulation at 24 CFR 982.505(c)(3) states that, if the amount on the payment standard schedule is decreased during the term of the housing assistance payments (HAP) contract, the lower payment standard amount generally must be used to calculate the monthly HAP for the family beginning on the effective date of the family's second regular reexamination following the effective date of the decrease.

Granted By: Sandra B. Henriquez, Assistant Secretary for Public and Indian Housing.

Date Granted: June 7, 2012.

Reason Waived: This waiver was granted because this cost-saving measure would enable the BHA to manage its Housing Choice Voucher program within allocated budget authority and avoid the termination of HAP contracts due to insufficient funding.

Contact: Laure Rawson, Director, Housing Voucher Management and Operations Division, Office of Public Housing and Voucher Programs, Office of Public and Indian Housing, Department of Housing and Urban Development, 451 Seventh Street SW., Room 4216, Washington, DC 20410, telephone (202) 708-0477.

• Regulation: 24 CFR 982.505(c)(3).

Project/Activity: Housing and Redevelopment Authority of Bemidji (HRAB), Bemidji, MN.

Nature of Requirement: HUD's regulation at 24 CFR 982.505(c)(3) states that, if the amount on the payment standard schedule is decreased during the term of the housing assistance payments (HAP) contract, the lower payment standard amount generally must be used to calculate the monthly HAP for the family beginning on the effective date of the family's second regular reexamination following the effective date of the decrease.

Granted By: Sandra B. Henriquez, Assistant Secretary for Public and Indian Housing.

Date Granted: June 14, 2012.

Reason Waived: This waiver was granted because this cost-saving measure would enable the HRAB to manage its Housing Choice Voucher program within allocated budget authority and avoid the termination of HAP contracts due to insufficient funding.

Contact: Laure Rawson, Director, Housing Voucher Management and Operations Division, Office of Public Housing and Voucher Programs, Office of Public and Indian Housing, Department of Housing and Urban Development, 451 Seventh Street SW., Room 4216, Washington, DC 20410, telephone (202) 708-0477.

• Regulation: 24 CFR 982.505(c)(3).

Project/Activity: Housing Authority of the City of Danville (HACD), Danville, IL.

Nature of Requirement: HUD's regulation at 24 CFR 982.505(c)(3) states that, if the amount on the payment standard schedule is decreased during the term of the housing assistance payments (HAP) contract, the lower payment standard amount generally must be used to calculate the monthly HAP for the family beginning on the effective date of the family's second regular reexamination following the effective date of the decrease.

Granted By: Sandra B. Henriquez, Assistant Secretary for Public and Indian Housing.

Date Granted: June 28, 2012.

Reason Waived: This waiver was granted because this cost-saving measure would enable the HACD to manage its Housing Choice Voucher program within allocated budget authority and avoid the termination of HAP contracts due to insufficient funding.

Contact: Laure Rawson, Director, Housing Voucher Management and Operations Division, Office of Public Housing and Voucher Programs, Office of Public and Indian Housing, Department of Housing and Urban Development, 451 Seventh Street SW., Room 4216, Washington, DC 20410, telephone (202) 708-0477.

• Regulation: 24 CFR 982.505(c)(3).

Project/Activity: Pontiac Housing Commission (PHC), Pontiac, MI.

Nature of Requirement: HUD's regulation at 24 CFR 982.505(c)(3) states that, if the amount on the payment standard schedule is decreased during the term of the housing assistance payments (HAP) contract, the lower payment standard amount generally must be used to calculate the monthly HAP for the family beginning on the effective date of the family's second regular reexamination following the effective date of the decrease.

Granted By: Sandra B. Henriquez, Assistant Secretary for Public and Indian Housing.

Date Granted: June 28, 2012.

Reason Waived: This waiver was granted because this cost-saving measure would enable the PHC to manage its Housing Choice Voucher program within allocated budget authority and avoid the termination of HAP contracts due to insufficient funding.

Contact: Laure Rawson, Director, Housing Voucher Management and Operations Division, Office of Public Housing and Voucher Programs, Office of Public and Indian Housing, Department of Housing and Urban Development, 451 Seventh Street SW., Room 4216, Washington, DC 20410, telephone (202) 708-0477.

• Regulation: 24 CFR 982.505(c)(4).

Project/Activity: Housing Authority of the City of Danbury (HACD), Danbury, CT.

Nature of Requirement: HUD's regulation at 24 CFR 982.505(c)(4) states that if the payment standard amount is increased during the term of the housing assistance payments (HAP) contract, the increased payment standard amount shall be used to calculate the monthly HAP for the family beginning at the effective date of the family's first regular reexamination on or after the effective date of the increase in the payment standard amount.

Granted By: Sandra B. Henriquez, Assistant Secretary for Public and Indian Housing.

Date Granted: April 6, 2012.

Reason Waived: Since HACD should realize a significant surplus of HAP funding at the end of calendar years 2012 and 2013, and the rent burden data in the Public and Indian Housing Information Center indicated that 84 percent of HACD's voucher participants were paying more than 30 percent of adjusted monthly income toward their rent share, a waiver was granted to reduce this rent burden.

Contact: Laure Rawson, Director, Housing Voucher Management and Operations Division, Office of Public Housing and Voucher Programs, Office of Public and Indian Housing, Department of Housing and Urban Development, 451 Seventh Street SW., Room 4216, Washington, DC 20410, telephone (202) 708-0477.

• Regulation: 24 CFR 982.505(d).

Project/Activity: Amherst Town, Amherst, NY.

Nature of Requirement: HUD's regulation at 24 CFR 982.505(d) states that a public housing agency may only approve a higher payment standard for a family as a reasonable accommodation if the higher payment standard is within the basic range of 90 to 110 percent of the fair market rent (FMR) for the unit size.

Granted By: Sandra B. Henriquez, Assistant Secretary for Public and Indian Housing.

Date Granted: April 6, 2012.

Reason Waived: The participant and his wife, who are disabled, require an exception payment standard to move to a wheelchair-accessible unit. To provide this reasonable accommodation so the clients could move to an accessible unit and pay no more than 40 percent of their adjusted income toward the family share, the town was allowed to approve an exception payment standard that exceeded the basic range of 90 to 110 percent of the FMR.

Contact: Laure Rawson, Director, Housing Voucher Management and Operations Division, Office of Public Housing and Voucher Programs, Office of Public and Indian Housing, Department of Housing and Urban Development, 451 Seventh Street SW., Room 4216, Washington, DC 20410, telephone (202) 708-0477.

• Regulation: 24 CFR 982.505(d).

Project/Activity: Dedham Housing Authority (DHA), Dedham, MA.

Nature of Requirement: HUD's regulation at 24 CFR 982.505(d) states that a public housing agency may only approve a higher payment standard for a family as a reasonable accommodation if the higher payment standard is within the basic range of 90 to 110 percent of the fair market rent (FMR) for the unit size.

Granted By: Sandra B. Henriquez, Assistant Secretary for Public and Indian Housing.

Date Granted: May 10, 2012.

Reason Waived: The participant, who is disabled, required an exception payment standard to move to a new unit that met her health needs. To provide this reasonable accommodation so the client could be assisted in a new unit and pay no more than 40 percent of her adjusted income toward the family share, the DHA was allowed to approve an exception payment standard that exceeded the basic range of 90 to 110 percent of the FMR.

Contact: Laure Rawson, Director, Housing Voucher Management and Operations Division, Office of Public Housing and Voucher Programs, Office of Public and Indian Housing, Department of Housing and Urban Development, 451 Seventh Street SW., Room 4216, Washington, DC 20410, telephone (202) 708-0477.

• Regulation: 24 CFR 982.505(d).

Project/Activity: Dedham Housing Authority (DHA), Dedham, MA.

Nature of Requirement: HUD's regulation at 24 CFR 982.505(d) states that a public housing agency may only approve a higher payment standard for a family as a reasonable accommodation if the higher payment standard is within the basic range of 90 to 110 percent of the fair market rent (FMR) for the unit size.

Granted By: Sandra B. Henriquez, Assistant Secretary for Public and Indian Housing.

Date Granted: June 8, 2012.

Reason Waived: The participant, who is disabled, requires an exception payment standard to move to a new unit that accommodates his needs. To provide this reasonable accommodation so the client could be assisted in this new unit and pay no more than 40 percent of his adjusted income toward the family share, the DHA was allowed to approve an exception payment standard that exceeded the basic range of 90 to 110 percent of the FMR.

Contact: Laure Rawson, Director, Housing Voucher Management and Operations Division, Office of Public Housing and Voucher Programs, Office of Public and Indian Housing, Department of Housing and Urban Development, 451 Seventh Street SW., Room 4210, Washington, DC 20410, telephone (202) 708-0477.

• Regulation: 24 CFR 982.505(d).

Project/Activity: Housing Authority of Spirit Lake (HASL), Spirit Lake, IA.

Nature of Requirement: HUD's regulation at 24 CFR 982.505(d) states that a public housing agency may only approve a higher payment standard for a family as a reasonable accommodation if the higher payment standard is within the basic range of 90 to 110 percent of the fair market rent (FMR) for the unit size.

Granted By: Sandra B. Henriquez, Assistant Secretary for Public and Indian Housing.

Date Granted: June 19, 2012.

Reason Waived: The participants, who are disabled, require an exception payment standard to move to a group home where the units are accessible. To provide this reasonable accommodation so the clients could be assisted in these group home units and pay no more than 40 percent of their adjusted income toward the family share, the HASL was allowed to approve an exception payment standard that exceeded the basic range of 90 to 110 percent of the FMR.

Contact: Laure Rawson, Director, Housing Voucher Management and Operations Division, Office of Public Housing and Voucher Programs, Office of Public and Indian Housing, Department of Housing and Urban Development, 451 Seventh Street SW., Room 4210, Washington, DC 20410, telephone (202) 708-0477.

• Regulation: 24 CFR 983.59(b)(1).

Project/Activity: Washington County Department of Housing Services (WCDHA), Washington County, OR.

Nature of Requirement: HUD's regulation at 24 CFR 983.59(b)(1) states that the rent to owner for public housing agency (PHA) owned units is determined according to the same requirements as for other project-based voucher (PBV) units, except that the independent entity approved by HUD must establish the initial contract rents based on an appraisal by a licensed, state-certified appraiser.

Granted By: Sandra B. Henriquez, Assistant Secretary for Public and Indian Housing.

Date Granted: June 13, 2012.

Reason Waived: WCDHA had difficulty in procuring the services of a licensed, state-certified appraiser. It had exhausted all of its available resources such as referrals from other PHAs, Internet searches, telephone resources, newspaper advertisements, etc.

Contact: Laure Rawson, Director, Housing Voucher Management and Operations Division, Office of Public Housing and Voucher Programs, Office of Public and Indian Housing, Department of Housing and Urban Development, 451 Seventh Street SW., Room 4216, Washington, DC 20410, telephone (202) 708-0477.

• Regulation: 24 CFR 985.101(a).

Project/Activity: Cambridge Economic Development Authority (CEDA), Cambridge, MN, Todd County Housing and Redevelopment Authority (TCHRA), Todd County, MN, Otter Tail County Housing and Redevelopment Authority (OTCHRA), Otter Tail County, MN, Mental Health Resources (MHR), St. Paul, MN, Morrison County Housing and Redevelopment Authority (MCHRA), Morrison County.

Nature of Requirement: HUD's regulation at 24 CFR 985.101(a) states that a public housing agency must submit the HUD-required Section Eight Management Assessment Program (SEMAP) certification form within 60 calendar days after the end of its fiscal year.

Granted By: Sandra B. Henriquez, Assistant Secretary for Public and Indian Housing.

Date Granted: April 6, 2012.

Reason Waived: The public housing agencies are small with less than 250 units and the HUD field office was not aware that these agencies were required to submit their biennial SEMAP certifications for the period ending December 31, 2010.

Contact: Laure Rawson, Director, Housing Voucher Management and Operations Division, Office of Public Housing and Voucher Programs, Office of Public and Indian Housing, Department of Housing and Urban Development, 451 Seventh Street, SW., Room 4210, Washington, DC 20410, telephone (202) 708-0477.

[FR Doc. 2012-22482 Filed 9-11-12; 8:45 am]

BILLING CODE 4210-67-P